DEPARTMENT OF HOMELAND SECURITY

Transportation Security Administration

49 CFR Parts 1515, 1520, 1522, 1540, 1544, 1546, 1548, and 1549

[Docket No. TSA-2009-0018; Amendment Nos. 1515-2, 1520-9, 1522-1, 1540-11, 1544-10, 1546-6, 1548-6, 1549-1]

RIN 1652-AA64

Air Cargo Screening; Reopening of Comment Period

AGENCY: Transportation Security Administration, DHS.

ACTION: Final rule; reopening of comment period.

SUMMARY: On August 18, 2011, the Transportation Security Administration (TSA) published a final rule pertaining to air cargo screening with a request for comments on the proposed fee range and methodology for the processing of security threat assessments, and provided a 30-day public comment period that ended on September 19, 2011. The TSA has decided to reopen the comment period for an additional 30 days to allow the public to comment on data available in the public docket concerning the underlying methodology used to calculate the fee.

DATES: The comment period for the final rule at 76 FR 51848, Part III, August 18, 2011, is reopened until October 31, 2011.

ADDRESSES: You may submit comments, identified by the TSA docket number TSA-2009-0018, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue, SE., West Building Ground Floor, Room W12-140, Washington, DC 20590-0001; fax (202) 493-2251. The Department of Transportation (DOT), which maintains and processes TSA's official regulatory dockets, will scan the submission and post it to FDMS.

See SUPPLEMENTARY INFORMATION for format and other information about comment submissions.

FOR FURTHER INFORMATION CONTACT: Alice Crowe, Senior Counsel, Office of Chief Counsel, TSA-22, Transportation Security Administration, 601 South 12th Street, Arlington, VA 20598-6028; telephone (571) 227 -2652; facsimile (571) 227-1379; e-mail alice.crowe@dhs.gov.

SUPPLEMENTARY INFORMATION:

Comments Invited

TSA invites interested persons to participate in this action by submitting written comments, data, or views on the proposed fee range and the methodology used to develop the fee for the processing of security threat assessments detailed in the final rule. See ADDRESSES above for information on where to submit comments.

With each comment, please identify the docket number, TSA-2009-0018, at the beginning of your comments. TSA encourages commenters to provide their names and addresses. The most helpful comments reference a specific portion of the document, explain the reason for any recommended change, and include supporting data. You may submit comments and material electronically, in person, by mail, or by fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file all comments to our docket address, as well as items sent to the address or e-mail under FOR FURTHER INFORMATION CONTACT, in the public docket, except for comments containing confidential information and sensitive security information (SSI).¹ Should you wish your personally identifiable information be redacted prior to filing in the docket, please so state. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

TSA will not place comments containing SSI in the public docket and will handle them in accordance with applicable safeguards and restrictions on access. TSA will hold documents containing SSI, confidential business information, or trade secrets in a separate file to which the public does not have access, and place a note in the public docket explaining that commenter's have submitted such documents. TSA may include a redacted version of the comment in the public docket. If an individual requests to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments in any of our dockets by the name of the individual who submitted the comment (or signed the comment, if an association, business, or labor union submitted the comment). You may review the applicable Privacy Act Statement published in the Federal Register on April 11, 2000 (65 FR 19477) and modified on January 17, 2008 (73 FR 3316).

You may review TSA's electronic public docket on the Internet at http://www.regulations.gov. In addition, DOT's Docket Management Facility provides a physical facility, staff, equipment, and assistance to the public. To obtain assistance or to review comments in TSA's public docket, you may visit this facility between 9 a.m. to 5 p.m., Monday through Friday, excluding legal holidays, or call (202) 366-9826. This docket operations facility is located in the West Building Ground Floor, Room W12-140 at 1200 New Jersey Avenue, SE., Washington, DC 20590.

Availability of the Rulemaking and Comments Received

You can get an electronic copy using the Internet by—

(1) Searching the electronic Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this rulemaking.

Background

On August 18, 2011, TSA published the Air Cargo Screening final rule in a separate Part III of the Federal Register (76 FR 51848). The rule included a proposed new fee range of $31-$51 for security threat assessments (STAs). The final rule provided a 30-day comment period that ended on September 19, 2011, for public comments on the proposed fee range for the processing of STAs, and on the proposed fee range and the methodology used to develop the fee.

In the preamble “Fee Range” section to the final rule, TSA stated that additional detailed information regarding the fee determination had been provided in the “Air Cargo Screening Security Threat Assessment Fee Development Report.” 76 FR 51858. The final rule stated that this report had been placed in the public docket established for this rulemaking. TSA inadvertently omitted to place this report in the public docket, and therefore the information in the report was not available for review during the comment period. TSA has since placed the report in the docket and is reopening the comment period for an additional 30 days on the proposed fee range of $31 to $51. This will allow interested parties the opportunity to provide substantive input on the additional information regarding the fee determination in the report.

Comment Period Reopening

The TSA determines that reopening the comment period is in the public interest. Accordingly, the comment period for the final rule “Air Cargo Screening” is reopened for an additional 30 days until October 31, 2011. This reopening will allow industry and other interested entities and individuals additional time to complete their comments on the fee range and methodology.

Notice of Final Fee

Once this additional comment period closes, TSA will publish a notice in the Federal Register announcing the final fee, and will respond to comments received during both public comment periods on the proposed fee range in the Air Cargo Screening final rule.

Issued in Arlington, Virginia on September 26, 2011.
Mardi Ruth Thompson,
Deputy Chief Counsel for Regulations.

[FR Doc. 2011-25218 Filed 9-29-11; 8:45 am]

BILLING CODE 9110-05-P